DEPARTMENT OF COMMERCE

National Oceanic and Atmospheric Administration

RIN 0648-XE842

South Atlantic Fishery Management Council; Public Meeting

AGENCY: National Marine Fisheries Service (NMFS), National Oceanic and Atmospheric Administration (NOAA), Commerce.

ACTION: Notice of public meeting of the South Atlantic Fishery Management Council.

SUMMARY: The South Atlantic Fishery Management Council (Council) will hold meetings of the: Habitat Protection and Ecosystem-Based Management Committee; Information and Education Committee, Scientific and Statistical Committee (SSC) Selection Committee (Closed Session); Advisory Panel (AP) Selection Committee (Closed Session); Southeast Data, Assessment and Review (SEDAR) Committee; Snapper Grouper Committee; Joint Dolphin Wahoo, Snapper Grouper, and Mackerel Cobia Committees; Mackerel Cobia Committee; Law Enforcement Committee; Protected Resources Committee; Data Collection Committee; Highly Migratory Species (HMS) Committee; Executive Finance Committee; and a meeting of the Full Council. The Council will also hold a Parliamentary Practice Workshop, an informal Q&A session, and a formal public comment session. The Council will take action as necessary.

DATES: The Council meeting will be held from 8:30 a.m. on Monday, September 12, 2016 until 1 p.m. on Friday, September 16, 2016.

ADDRESSES:

Meeting address: The meeting will be held at the Marina Inn at Grande Dunes, 8121 Amalfi Place, Myrtle Beach, SC 29572; phone: (877) 403-7676 or (843) 913-1333; fax: (843) 913-1334.

Council address: South Atlantic Fishery Management Council, 4055 Faber Place Drive, Suite 201, N. Charleston, SC 29405.

FOR FURTHER INFORMATION CONTACT: Kim Iverson, Public Information Officer, SAFMC; phone: (843) 571-4366 or toll free (866) SAFMC-10; fax: (843) 769-4520; email: kim.iverson@safmc.net. Meeting information is available from the Council's Web site at: http://safmc.net/Sept2016CouncilMeeting.

SUPPLEMENTARY INFORMATION:

Public comment: Written comments may be directed to Gregg Waugh, Executive Director, South Atlantic Fishery Management Council (see ADDRESSES) or electronically via the Council's Web site at: http://safmc.net/Sept2016_CouncilMeeting_CommentForm. All comments must be received by September 5, 2016 in order to be considered by the Council prior to the meeting. For written comments received after the Monday before the meeting (after 9/5), individuals sending the comment must use the Council's online form available from the Web site. Comments will automatically be posted to the Web site and available for Council consideration. Comments received prior to noon on Thursday, September 15, 2016 will be a part of the meeting administrative record.

The items of discussion in the individual meeting agendas are as follows:

Parliamentary Practice Workshop, Monday, September 12, 2016, 8:30 a.m. Until 12 p.m.

Council members will participate in a workshop on Parliamentary practice with a focus on Robert's Rules and effective communication.

Habitat Protection and Ecosystem-Based Management Committee Meeting, Monday, September 12, 2016, 1:30 p.m. Until 4 p.m.

1. The Committee will receive a report from the Habitat Protection and Ecosystem-Based Management Advisory Panel and a summary of the Food Web & Connectivity and Climate Variability & Fisheries sections of the Council's Fishery Ecosystem Plan (FEP).

2. The Committee will review policy considerations supporting Policy Statement Development, Habitat and Ecosystem Tools, and model development. The Committee will provide recommendations as appropriate.

Information and Education Committee, Monday, September 12, 2016, 4 p.m. Until 5 p.m.

The Committee will receive an overview of the results of the Council's recent communications survey and an update on outreach activities. The Committee will provide guidance as needed.

SSC Selection Committee, Tuesday, September 13, 2016, 8:30 a.m. Until 9:30 a.m. (Closed Session)

The Committee will review applications for the SSC and provide recommendations for Council consideration.

AP Selection Committee, Tuesday, September 13, 2016, 9:30 a.m. Until 11 a.m. (Closed Session)

The Committee will review applications for open advisory panel seats and provide recommendations for Council consideration.

SEDAR Committee, Tuesday, September 13, 2016, 11 a.m. Until 12 p.m.

The Committee will receive updates on SEDAR projects and provide guidance on a Research Track Proposal and assessment priorities.

Informal Q & A, Tuesday, September 13, 2016, beginning at 5:30 p.m. with Sam Rauch, Deputy Assistant Administrator for Regulatory Programs NOAA Fisheries; Dr. Roy Crabtree, NOAA Fisheries Southeast Regional Administrator; Dr. Bonnie Ponwith, NOAA Fisheries Southeast Fisheries Science Center Director; and Dr. Michelle Duval, South Atlantic Fishery Management Council Chair.

Snapper Grouper Committee, Tuesday, September 13, 2016, 1:30 p.m. Until 5:30 p.m. and Wednesday, September 14, 2016, 8:30 a.m. Until 12 p.m.

1. The Committee will receive updates from NOAA Fisheries on the status of commercial catches versus quotas for species under Annual Catch Limits (ACLs) and the status of amendment currently under Secretarial review and take action as necessary.

2. The Committee will receive an overview of Snapper Grouper Amendment 37 addressing measures for hogfish, review comments on the Draft Environmental Impact Statement (DEIS) and Final Environmental Impact Statement (FEIS), modify the document as appropriate, and approve for Secretarial review.

3. The Committee will review Snapper Grouper Amendment 41 addressing management measures for mutton snapper, consider public hearing comments, modify the document as appropriate, and approve all actions.

4. The Committee will receive an overview of management options for red snapper to be addressed in Amendment 43, modify the document as necessary, approve for scoping, discuss and consider emergency action, and provide guidance to staff.

5. The Committee will review management options to include in a Vision Blueprint Recreational Amendment, discuss and provide guidance to staff as necessary.

6. The Committee will receive an overview of the assessment methodology used for golden tilefish in the Mid-Atlantic and the Council's rationale for not linking permits/catch history to endorsements, discuss changing the fishing year for the hook-and-line component of the commercial golden tilefish fishery and provide guidance as needed.

7. The Committee will discuss changing the mesh size of black sea bass pots and take action as necessary.

8. The Committee will receive an overview of the Red Grouper Stock Assessment and Fisheries Evaluation (SAFE) report, discuss and provide guidance to staff.

Joint Dolphin Wahoo, Snapper Grouper, and Mackerel Cobia Committees, Wednesday, September 14, 2016, 1:30 p.m. Until 3:30 p.m.

1. The Committees will receive status updates from NOAA Fisheries on commercial catches versus annual catch limits (ACLs) for dolphin and wahoo and amendments currently under Secretarial review.

2. The Committees will receive an overview of Amendment 10 to the Dolphin Wahoo Fishery Management Plan (FMP)/Amendment 44 to the Snapper Grouper FMP addressing allocations for dolphin and yellowtail snapper, review scoping comments, and provide direction to staff as appropriate.

3. The Committees will receive an overview of options for a Limited Entry program for federal For-Hire Permits in the Snapper Grouper, Coastal Migratory Pelagic, and Dolphin Wahoo fisheries in the South Atlantic/Atlantic. The Committees will discuss options and provide direction to staff.

Mackerel Cobia Committee, Wednesday, September 14, 2016: 3:30 p.m. Until 5:30 p.m. and Thursday, September 15, 2016: 8:30 a.m. Until 9:30 a.m.

1. The Committee will receive a report from NOAA Fisheries on commercial catches versus ACLs and the status of amendments under review, and an explanation of what happened with the cobia commercial overage in 2015. The Committee will discuss and take action as appropriate.

2. The Committee will receive reports from the June/August 2016 Gulf Council meetings, the August 2015 Atlantic States Marine Fisheries Commission (ASMFC) meeting, and the August 2016 Mid-Atlantic Council meeting, discuss and take action as appropriate.

3. The Committee will receive a presentation on the South Carolina Distinct Population Segment of Atlantic cobia, discuss and take action as appropriate.

4. The Committee will receive an overview of Framework Amendment 4 to the Coastal Migratory Pelagic FMP addressing management measures for Atlantic cobia, review public hearings comment, modify the document as needed, select preferred alternatives, and approve the document for Secretarial review. The Committee will also provide direction to staff on any emergency action and addressing any change to the fishing year for Atlantic cobia.

5. The Committee will review Framework Amendment 5 to the Coastal Migratory Pelagic FMP that would remove current restrictions on commercial king mackerel and Spanish mackerel permits that prohibit the retention of bag limit king mackerel and Spanish mackerel on recreational (non-commercial and non-charter/headboat) trips on federally permitted vessels when commercial harvest is closed for the Gulf of Mexico and South Atlantic/Mid-Atlantic regions. The Committee will review public input, modify the document as needed, select preferred alternatives, and approve for Secretarial review.

6. The Committee will receive an overview of Amendment 29 to the Coastal Migratory Pelagic FMP to address allocations of Gulf migratory group king mackerel, select preferred alternatives, and modify as necessary.

Formal Public Comment, Wednesday, September 14, 2016, 5:30 p.m.—Public comment will be accepted on items on the Council agenda. Comment will be accepted first on items before the Council for Secretarial approval: (1) Snapper Grouper Amendment 37 (hogfish); (2) Coastal Migratory Pelagics Framework Amendment 4 (Atlantic cobia); and (3) Coastal Migratory Pelagics Framework Amendment 5 (Modify permit restrictions). The Council Chair, based on the number of individuals wishing to comment, will determine the amount of time provided to each commenter.

Law Enforcement Committee, Thursday, September 15, 2016, 9:30 a.m. Until 10:30 a.m.

The Committee will receive a summary report from the Joint meeting of the Law Enforcement Committee and Advisory Panel and provide recommendations as appropriate.

Protected Resources Committee, Thursday, September 15, 2016, 10:30 a.m. Until 11:30 a.m.

The Committee will receive an update from NOAA Fisheries on Protected Resources issues including the Biological Opinion for the Snapper Grouper fishery and a 12-month determination for Nassau grouper. The Committee will also receive an update from the U.S. Fish and Wildlife Service/ASMFC.

Data Collection Committee, Thursday, September 15, 2016, 1 p.m. Until 4 p.m.

1. The Committee will receive an update from NOAA Fisheries on the status of work relative to Comprehensive Ecosystem-Based Amendment 3 (CE-BA 3) addressing bycatch and the final Standardized Bycatch Reporting Methodology (SBRM) rule, discuss the amendment and provide direction to staff.

2. The Committee will receive an update on the status of the Implementation Plan and cost analyses for commercial logbook electronic reporting, discuss and provide guidance to staff.

3. The Committee will also receive an overview of the Atlantic For-Hire Reporting Amendment, an update on the Council's for-hire pilot project, a report from the South Carolina Department of Natural Resources on their for-hire logbook validation and verification project, and provide guidance as appropriate.

4. The Committee will receive an update on the Council's Citizen Science Program, discuss, and take action as appropriate.

Highly Migratory Species (HMS) Committee, Thursday, September 15, 2016, 4 p.m. Until 5 p.m.

1. The Committee will receive an update on the HMS Advisory Panel meeting, discuss and take action as appropriate.

2. The Committee will receive a presentation from NOAA Fisheries HMS on the Proposed Rule/Environmental Assessment (EA) for non-blacknose small coastal shark and blacknose shark fisheries and draft EA for HMS Amendment 10 addressing Essential Fish Habitat and Habitat Areas of Particular Concern, discuss and take action as necessary.

Executive Finance Committee, Thursday, September 15, 2016, 5 p.m. Until 6 p.m.

1. The Committee will receive an update on the status of expenditures for Calendar Year (CY) 2016; review, modify, and approve the Council Follow-up and work priorities; and provide recommendations as appropriate.

2. The Committee will discuss standards and procedures for participating in Council webinar meetings and for accepting public comment, review the Council/NOAA Fisheries/NOAA Regional Operations Agreement, and take action as appropriate.

Council Session: Friday, September 16, 2016, 8:30 a.m. Until 1 p.m.

8:30-8:45 a.m.: Call the meeting to order, swearing in of new Council members, election of chair and vice-chair, adopt the agenda, and approve the June 2016 meeting minutes.

8:45-9:30 a.m.: The Council will receive a report from the Snapper Grouper Committee and approve/disapprove Snapper Grouper Amendment 37 (hogfish) for Secretarial review and approve Snapper Grouper Amendment 43 (red snapper) for scoping. The Council will consider other Committee recommendations and take action as appropriate.

9:30-10:00 a.m.: The Council will receive a report from the Mackerel Cobia Committee, approve/disapprove Coastal Migratory Pelagics Framework Amendment 4 (Atlantic cobia) for Secretarial review and approve/disapprove any cobia emergency action, approve/disapprove Framework Amendment 5 (Modifying permit restrictions) for Secretarial review, consider other Committee recommendations, and take action as appropriate.

10 a.m.-10:10 a.m.: The Council will receive a report from the HMS Committee, consider recommendations, and take action as appropriate.

10:10-10:30 a.m.: The Council will receive a report from the Joint Dolphin Wahoo, Snapper Grouper, and Mackerel Cobia Committees, consider recommendations, and take action as appropriate.

10:30-10:40 a.m.: The Council will receive a report from the Protected Resources Committee, consider recommendations and take action as appropriate.

10:40-10:50 a.m.: The Council will receive a report from the Advisory Panel Selection Committee, consider Committee recommendations, and take action as appropriate.

10:50-11:00 a.m.: The Council will receive a report from the SSC Selection Committee, consider Committee recommendations, and take action as appropriate.

11:00- 11:10 a.m.: The Council will receive a report from the SEDAR Committee, consider committee recommendations, and take action as appropriate.

11:10-11:20 a.m.: The Council will receive a report from the Data Collection Committee, consider committee recommendations, and take action as appropriate.

11:20-11:25 a.m.: The Council will receive a report from the Habitat and Ecosystem-Based Management Committee, consider any committee recommendations, and take action as appropriate.

11:25-11:30 a.m.: The Council will receive a report from the Law Enforcement Committee, consider recommendations, and take action as appropriate.

11:30-11:35 a.m.: The Council will receive a report from the Information and Education Committee, consider recommendations, and take action as appropriate.

11:35-11:45 a.m.: The Council will receive a report from the Executive Finance Committee, approve the Council Follow-Up and Priorities, approve the Council/NOAA Fisheries/NOAA Regional Operations Agreement, consider other Committee recommendations, and take action as appropriate.

11:45-1 p.m.: The Council will receive status reports from NOAA Fisheries Southeast Regional Office and the Southeast Fisheries Science Center; review and develop recommendations on Experimental Fishing Permits as necessary; receive agency and liaison reports; and discuss other business and upcoming meetings.

Documents regarding these issues are available from the Council office (see ADDRESSES).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Authority: 16 U.S.C. 1801 et seq.

Dated: August 24, 2016.
Jeffrey N. Lonergan,
Acting Deputy Director, Office of Sustainable Fisheries, National Marine Fisheries Service.

[FR Doc. 2016-20643 Filed 8-26-16; 8:45 am]

BILLING CODE 3510-22-P